DEPARTMENT OF TRANSPORTATION

Federal Railroad Administration

[Docket No. FRA 2015-0007-N-25]

Proposed Agency Information Collection Activities; Comment Request

AGENCY: Federal Railroad Administration (FRA), Department of Transportation.

ACTION: Notice and request for comments.

SUMMARY: In accordance with the Paperwork Reduction Act of 1995 and its implementing regulations, the Federal Railroad Administration (FRA) hereby announces that it is seeking renewal of the following currently approved information collection activities. Before submitting these information collection requests (ICRs) for clearance by the Office of Management and Budget (OMB), FRA is soliciting public comment on specific aspects of the activities identified below.

DATES: Comments must be received no later than November 23, 2015.

ADDRESSES: Submit written comments on any or all of the following proposed activities by mail to either: Mr. Robert Brogan, Office of Safety, Regulatory Safety Analysis Division, RRS-21, Federal Railroad Administration, 1200 New Jersey Ave. SE., Mail Stop 25, Washington, DC 20590, or Ms. Kimberly Toone, Office of Information Technology, RAD-20, Federal Railroad Administration, 1200 New Jersey Ave. SE., Mail Stop 35, Washington, DC 20590. Commenters requesting FRA to acknowledge receipt of their respective comments must include a self-addressed stamped postcard stating, “Comments on OMB control number 2130-___.” Alternatively, comments may be transmitted via facsimile to (202) 493-6216 or (202) 493-6497, or via email to Mr. Brogan at Robert.Brogan@dot.gov, or to Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Regulatory Safety Analysis Division, RRS-21, Federal Railroad Administration, 1200 New Jersey Ave. SE., Mail Stop 25, Washington, DC 20590 (telephone: (202) 493-6292) or Ms. Kimberly Toone, Office of Information Technology, RAD-20, Federal Railroad Administration, 1200 New Jersey Ave. SE., Mail Stop 35, Washington, DC 20590 (telephone: (202) 493-6132). (These telephone numbers are not toll-free.)

SUPPLEMENTARY INFORMATION: The Paperwork Reduction Act of 1995 (PRA), Public Law 104-13, sec. 2, 109 Stat. 163 (1995) (codified as revised at 44 U.S.C. 3501-3520), and its implementing regulations, 5 CFR part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding: (i) Whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(I)-(iv); 5 CFR 1320.8(d)(1)(I)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of the currently approved ICRs that FRA will submit for clearance by OMB as required under the PRA:

Title: State Safety Participation Regulations and Remedial Actions.

OMB Control Number: 2130-0509.

Abstract: The collection of information is set forth under 49 CFR part 212, and requires qualified state inspectors to provide various reports to FRA for monitoring and enforcement purposes concerning state investigative, inspection, and surveillance activities regarding railroad compliance with Federal railroad safety laws and regulations. Additionally, railroads are required to report to FRA actions taken to remedy certain alleged violations of law.

Form Number(s): FRA F 6180.33/61/67/96/96A/109/110/111/112/144.

Affected Public: Businesses.

Respondent Universe: States and Railroads.

Frequency of Submission: On occasion.

Reporting Burden:

CFR section | Respondent universe | Total annual responses | Average time per response | Total annual burden hours
Application For Participation | 15 States | 15 updates | 2.5 hours | 38 hours.
State Railroad Technical Training Funding Agreement | 30 States | 30 agreements | 1 hour | 30 hours.
Inspector Travel Planning and Reimbursement | 30 States | 300 vouchers | 1 hour | 300 hours.
Annual Work Plan | 30 States | 30 reports | 5 hours | 150 hours.
Inspection Form (FRA F 6180.96) | 30 States | 16,000 forms | 15 minutes | 4,000 hours.
Violation Report—Motive, Power, and Equipment Regulations (Form FRA F 6180.109) | 17 States | 150 reports | 4 hours | 600 hours.
Violation Report—Operating Practices Regulations (Form FRA F 6180.67) | 16 States | 200 reports | 4 hours | 800 hours.
Violation Report—Hazardous Materials Regulations (Form FRA F 6180.110) | 15 States | 150 reports | 4 hours | 600 hours.
Violation Report—Hours of Service Law (F 6180.33) | 16 States | 15 reports | 4 hours | 60 hours.
Violation Report—Accident/Incident Reporting Rules (Form FRA F 6180.61) | 16 States | 15 reports | 4 hours | 60 hours.
Violation Report—Track Safety Regulations (Form FRA F 6180.111) | 25 States | 60 reports | 4 hours | 240 hours.
Violation Report—Signal and Train Control Regulations (Form FRA F 6180.112) | 14 States | 20 reports | 4 hours | 80 hours.
Remedial Actions Reports | 563 Railroads | 4,200 reports | 15 minutes | 1,050 hours.
Violation Report Challenge | 563 Railroads | 840 challenge | 1 hours | 840 hours.
Delayed Reports | 573 Railroads | 420 reports | 30 minutes | 210 hours.

Total Responses: 22,445.

Estimated Total Annual Burden: 9,058 hours.

Type of Request: Extension of a currently approved collection.

Title: Use of Locomotive Horns at Highway-Rail Grade Crossings.

OMB Control Number: 2130-0560.

Abstract: Under title 49 part 222 of the Code of Federal Regulations, FRA seeks to collect information from railroads and public authorities in order to increase safety at highway-rail grade crossings nationwide by requiring that locomotive horns be sounded when trains approach and pass through these crossings or by ensuring that a safety level at least equivalent to that provided by blowing locomotive horns exists for corridors in which horns are silenced. FRA reviews applications by public authorities intending to establish new or, in some cases, continue pre-rule quiet zones to ensure the necessary level of safety is achieved.

Form Number(s): N/A.

Affected Public: Businesses.

Respondent Universe: 728 railroads/340 Public Authorities.

Frequency of Submission: On occasion.

CFR section | Respondent universe | Total annual responses | Average time per response | Total annual burden hours
222.11—Penalties—Falsified Report | 779 Railroads/340 Public Authorities | 1 report/record | 2 hours | 2 hours.
222.15—Waiver Petitions | 779 Railroads/340 Public Authorities | 8 petitions | 4 hours | 32 hours.
222.39—Applications to Establish Quiet Zone | 340 Public Authorities | 15 applications | 80 hours | 1,200 hours.
—Diagnostic Team Rev | 340 Public Authorities | 3 team reviews | 16 hours | 48 hours
—Updated Crossing Inventory Forms | 340 Public Authorities | 75 updated forms | 1 hour | 75 hours
—Copies of Quiet Zone Application | 340 Public Authorities | 90 copies | 10 minutes | 15 hours.
—Comments to FRA on Quiet Zone Application | 715 Railroads/State Agencies | 30 comments | 1.5 hours | 45 hours.
222.43—Written Notice of Public Authority Intent to Create New Quiet Zone and Notification to Required Parties | 216 Communities/Public Authorities | 60 notices + 180 notifications | 40 hours + 10 minutes | 2,430 hours.
—Updated Crossing Inventory Forms Comments on proposed Quiet Zone | 216 Communities | 300 updated forms | 1 hour | 300 hours.
—Notice of Quiet Zone Establishment + | 715 Railroads/State Agencies | 120 comments | 4 hours | 480 hours.
—Notification to Required Parties | 316 Public Authorities | 60 notices + 360 notifications | 40 hours + 10 minutes | 2,460 hours.
—Updated Crossing Inventory Forms | 316 Public Authorities | 300 updated forms | 1 hour | 300 hours.
—Certification by CEO of Public Authority Regarding Accuracy of Information | 216 Public Authorities | 60 certifications | 5 minutes | 5 hours.
222.47—Periodic Updates: Written Affirmation that Supplementary Safety Measures Implemented w/in Quiet Zone Conform to Rule or Terms of Approval | 200 Public Authorities | 62 written affirmations + 972 copies (to required parties) | 30 minutes + 2 minutes | 113 hours.
—Updated Crossing Inventory Forms | 200 Public Authorities | 810 updated forms | 1 hour | 810 hours.
222.51—Written Commitment to Lower Risk to Traveling Public in Quiet Zones Exceeding Nationwide Significant Risk Threshold | 9 Public Authorities | 5 written commitments | 5 hours | 25 hours.
—Comments Upon FRA Review of Quiet Zone Status | 3 Public Authorities | 4 comments | 30 minutes | 2 hours.
222.55—Request for FRA Approval of New Supplementary Safety Measures or Alternative Safety Measures (ASMs) for Quiet Zone | 265 Interested Parties | 1 letter | 30 minutes | 1 hour.
—Comments on New SSMs or ASMs | 265 Interested Parties/General Public | 5 comments | 30 minutes | 3 hours.
—Request for SSM/ASM Approval -Demo | 265 Interested Parties | 1 letter | 30 minutes | 1 hour.
222.57—Petition for FRA Review of Decision Granting or Denying a New SSM or ASM; Petition Copies to Relevant Parties | 265 Public Authorities/Interested Parties | 1 petition + 5 petition copies | 60 minutes + 2 minutes | 1 hour.
—Request for FRA Reconsideration of Disapproval of Quiet Zone + Party Copies | 200 Public Authorities | 1 letter + 6 letter copies | 5 hours + 2 minutes | 5 hours.
—Additional Documents to FRA as Follow-up to Petition for Reconsideration | 200 Public Authorities | 1 additional document/set of materials | 2 hours | 2 hours.
—Letter Requesting FRA Informal Hearing | 200 Public Authorities | 1 letter | 30 minutes | 1 hour.
222.59—Written Notice of Use of Wayside Horn at Grade Crossing within Quiet Zone + Party Copies | 200 Public Authorities | 5 notices + 30 notice copies | 2.5 hours + 10 minutes | 18 hours.
—Notice of Wayside Horn Outside Q. Zone | 200 Public Authorities | 5 notices + 30 notice copies | 2.5 hours + 10 minutes | 18 hours.
Appendix B—Public Authority Record Relating to Monitoring and Sampling Efforts at Grade Crossing in Quiet Zone with Programmed Enforcement | 200 Public Authorities | 1 record | 500 hours | 500 hours.
—Public Authority Record Relating to Monitoring and Sampling Efforts at Grade Crossing in Quiet Zone with Photo Enforcement | 200 Public Authorities | 1 record | 9 hours | 9 hours.
222.129—Written Reports/Records of Locomotive Horn Testing | 779 Railroads | 650 reports/records | 60 minutes | 650 hours.

Total Estimated Responses: 4,359.

Total Estimated Annual Burden: 9,551 hours.

Status: Regular Review.

Title: Safety Appliance Concern Recommendation Report; Safety Appliance Standards Guidance Checklist Forms.

OMB Control Number: 2130-0565.

Type of Request: Revision of a previously approved information collection.

Abstract: Sample car/locomotive inspections are performed as a courtesy to the car manufacturers to ensure that the equipment is built in accordance with all applicable Federal regulations and requirements. Car builders that desire to have FRA review their equipment for compliance with safety standards are to submit their safety appliance arrangement drawings, prints, etc., to the FRA Office of Safety Assurance and Compliance for review at least 60 days prior to construction. The sample car inspection program is designed to provide assurance that rolling stock equipment is compliant within the Code of Federal Regulations for use on the general railroad system. Although a sample car inspection is not required, most builders today request FRA to perform the inspection. The goal of the sample car inspection program is to reduce risk to railroad employees and improve passenger safety for the general public by ensuring rolling stock is fully compliant with all applicable regulations.

In an ongoing effort to conduct more thorough and more effective inspections of freight railroad equipment and to further enhance safe rail operations, FRA has developed a safety concern recommendation report form and a group of guidance checklist forms that facilitate railroad, rail car owner, and rail equipment manufacturer compliance with agency Railroad Safety Appliance Standards regulations. FRA will be obsoleting Forms FRA F 6180.4(a)-(q) and requesting OMB discontinue its current approval for these forms. FRA will be replacing these forms with new Forms FRA F 6180.161(a)-(k). The reason for the discontinuance of the previously approved forms and request for OMB approval of the new forms is due to the fact that 49 CFR part 231 is being supplemented and expanded to cover new types of cars. For these new types of cars, FRA will be following the Standard established by the Association of American Railroads (AAR) Standard 2044 or S-2044.

When a request for sample car inspection incoming letter is provided by the customer, an abundant of amount of information is submitted to FRA for review that may require a formal on-site inspection. The information contained in the letter includes several paragraphs to explain the cited Code of Federal Regulations that the customer believes related to the construction of the car. Since many cars today are considered a car of special construction, the type of car to be reviewed, many times the amount of details of information are supplied to support why the customer believes the car submitted is the nearest car to construction. An abundance of factors with justification to support the car type is included in the request. Some examples would be a Logo, Company Name, and signature block, specific drawings, reflectorization, engineering information such as test or modeling of components. Also, the request may include car reporting marks, the amount of cars that would be constructed in the car series. In addition, the request would provide the location of the inspection, contact person, title, and contact information. Currently, each request is written differently, but contains most of the information to process the request to completion.

The FRA region responsible for the sample car field sample car inspection is obliged to formally inspect the car for compliance. All the information in the customer request is forwarded to the region for review. Once the inspection is completed, the assigned inspector provides his report in a memorandum to the MP&E Specialist. The MP&E Specialist reviews the documents and provides a memo to the Regional Administrator who sends a response by memorandum to FRA Headquarters of the finding from the field inspection.

FRA Headquarters is responsible for gathering all the information from the request from the customer as well as assigning and forwarding the information to the Region. All the information is reviewed by the MP&E Specialist at Headquarters. The MP&E Specialist prepares a grid letter response for the MP&E Staff Director who then offers the response letter to the Director, Office of Safety Assurance and Compliance. The formal response letter is then sent to the customer through the Control Correspondence Management (CCM) system.

Form Number(s): New Forms FRA F 6180.1614(a)-(k).

Affected Public: Businesses.

Respondent Universe: FRA Customers/State Inspectors.

Frequency of Submission: Annually.

Reporting Burden:

Form | Respondent universe | Total annual responses (forms) | Average time per response (minutes) | Total annual burden hours
New Form FRA F 6180.161a (S-2044, Appendix A) | FRA Customers/State Inspectors | 20 | 60 | 20
New Form FRA F 6180.161b S-2044, Appendix B-1) | FRA Customers/State Inspectors | 7 | 60 | 7
New Form FRA F 6180.161c S-2044, Appendix C-1) | FRA Customers/State Inspectors | 15 | 60 | 15
New Form FRA F 6180.161d S-2044, Appendix D-2) | FRA Customers/State Inspectors | 15 | 60 | 15
New Form FRA F 6180.161e S-2044, Appendix D-3) | FRA Customers/State Inspectors | 15 | 60 | 15
New Form FRA F 6180.161f S-2044, Appendix D-4) | FRA Customers/State Inspectors | 10 | 60 | 10
New Form FRA F 6180.161g S-2044, Appendix E-1) | FRA Customers/State Inspectors | 3 | 60 | 3
New Form FRA F 6180.161h S-2044, Appendix E-2) | FRA Customers/State Inspectors | 3 | 60 | 3
New Form FRA F 6180.161j S-2044, Appendix F-2) | FRA Customers/State Inspectors | 3 | 60 | 3
New Form FRA F 6180.161k S-2044, Appendix G-1) | FRA Customers/State Inspectors | 10 | 60 | 10

Total Estimated Annual Responses: 121.

Total Estimated Total Annual Burden: 121 hours.

Status: Revision of a Currently Approved Collection.

Title: FRA Safety Advisory 2015-03, Operational and Signal Modifications for Compliance with Maximum Authorized Passenger Train Speeds and Other Restrictions.

OMB Control Number: 2130-0613.

Type of Request: Regular Clearance of a Previously Approved Emergency Clearance.

Affected Public: 28 Railroads.

Abstract: FRA issued Safety Advisory 2015-03 on June 12, 2015 (see 80 FR 33585) to stress to passenger railroads and railroads that host passenger service and their employees the importance of compliance with Federal regulations and applicable railroad rules governing applicable passenger train speed limits. This safety advisory makes recommendations to these railroads to ensure that compliance with applicable passenger train speed limits is addressed by appropriate railroad operating policies and procedures and signal systems.

Reporting Burden:

Safety advisory 2015-03 | Respondent universe (railroads) | Total annual responses | Average time per response | Total annual burden hours
(1) RR Review of Circumstances of the Fatal May 12, 2015, Philadelphia Derailment with their Operating Employees | 28 | 28 RR Bulletins | 8 hours | 224
(2) RR Survey of their Entire Systems or the Portions on Which Passenger Service is Operated and Identification of Main Track Locations where there is a Reduction of More than 20 mph from the Approach Speed to a Curve or Bridge and the Maximum Authorized Operating Speed for Passenger Trains at the Identified Location | 28 | 28 Surveys/Lists | 40 hours | 1,120
(3) Communications between Locomotive Engineer and a Second Qualified Crew Member in the Body of the Train at Identified Locations | 28 | 2,800 Messages/Communications | 2 minutes | 93
(4) RR Installation of Additional Wayside Signs throughout Its System or Portions on Which Passenger Service is Operated, with Special Emphasis at Identified Locations | 28 | 3,024 Wayside Signs | 15.4839 minutes | 780

Form Number(s): N/A.

Frequency of Submission: One-time; on occasion.

Total Estimated Annual Responses: 5,880.

Total Estimated Annual Burden: 2,217 hours.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Corey Hill,
Executive Officer.

[FR Doc. 2015-24181 Filed 9-22-15; 8:45 am]

BILLING CODE 4910-06-P